FEDERAL EMERGENCY MANAGEMENT AGENCY

44 CFR Part 67

Docket No. FEMA-B-7424

Proposed Flood Elevation Determinations

AGENCY: Federal Emergency Management Agency (FEMA).

ACTION: Correction of proposed rule.

SUMMARY: This document contains corrections to the proposed rule (Docket No. FEMA-B-7424), which was published on February 5, 2002. The correction more accurately represents the Flood Insurance Study and Flood Insurance Rate Map for the unincorporated areas of Greene County, Missouri, than previously published.

DATES: The comment period is ninety (90) days following the second publication of this correction to the proposed rule in a newspaper of local circulation in the community.

ADDRESSES: The proposed base flood elevations for the community are available for inspection at the Planning and Zoning Section, 833 Boonville Road, Springfield, Missouri 65802.

FOR FURTHER INFORMATION CONTACT: Matthew B. Miller, P.E., Chief, Hazards Study Branch, Federal Insurance and Mitigation Administration, 500 C Street SW., Washington, DC 20472, (202) 646-3461, or (e-mail) matt.miller@fema.gov.

SUPPLEMENTARY INFORMATION: The Federal Emergency Management Agency (FEMA) publishes proposed determinations of base (1-percent-annual-chance) flood elevations (BFEs) and modified BFEs for communities participating in the National Flood Insurance Program (NFIP), in accordance with Section 110 of the Flood Disaster Protection Act of 1973, 42 U.S.C. 4104, and 44 CFR 67.4(a). These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed BFEs are used to meet the floodplain management requirements of the NFIP and are also used to calculate the appropriate flood insurance premium rates for new buildings built after these elevations are made final, and for the contents in these buildings.

Correction:

In proposed rule FR Doc. 02-2660, published February 5, 2002 (67 FR 5246), make the following correction to the addresses published under the authority of § 67.4. On page 5248, revise the text following the table for Greene County, Missouri, to read as follows:

Maps are available for inspection at the County Environmental Office, County Courthouse, 940 Boonville Avenue, Springfield, Missouri.

Send comments to the Honorable David L. Coonrod, Presiding Commissioner, Greene County Commissioners, County Courthouse, 940 Boonville Avenue, Springfield, Missouri 65802.

(Catalog of Federal Domestic Assistance No. 83.100, “Flood Insurance”)

Dated: April 5, 2002.
Robert F. Shea,
Acting Administrator, Federal Insurance and Mitigation Administration.

[FR Doc. 02-10220 Filed 5-3-02; 8:45 am]

BILLING CODE 6718-04-P